DEPARTMENT OF THE INTERIOR

National Park Service

[NPS-WASO-NRNHL-DTS#-32765; PPWOCRADI0, PCU00RP14.R50000]

National Register of Historic Places; Notification of Pending Nominations and Related Actions

AGENCY: National Park Service, Interior.

ACTION: Notice.

SUMMARY: The National Park Service is soliciting electronic comments on the significance of properties nominated before September 25, 2021, for listing or related actions in the National Register of Historic Places.

DATES: Comments should be submitted electronically by October 21, 2021.

ADDRESSES: Comments are encouraged to be submitted elect0ronically to National_Register_Submissions@nps.gov with the subject line “Public Comment on <property or proposed district name, (County) State>.” If you have no access to email you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before September 25, 2021. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

NEW YORK

Erie County

Continental Baking Company Factory, 356 Fougeron St., Buffalo, SG100007098

St. John Kanty Roman Catholic Church Complex, 101 Swinburne St., Buffalo, SG100007100

Franklin County

Church of the Ascension Chapel and Rectory, 32 and 81 Cty. Rd. 46, Saranac Inn, SG100007097

Herkimer County

Van Slyke House, 918 NY 5S, German Falls, SG100007104

Kings County

St. Peter's Protestant Episcopal Church, 355 State St., Brooklyn, SG100007102

Suffolk County

St. Paul's Methodist Episcopal Church, 270 Main St., Northport, SG100007101

Ulster County

Asbury Historic District, Old King's Hwy., West Camp, Schoolhouse, Wilhelm, and Charles Smith Rds. Saugerties, SG100007096

Kingston Gas and Electric Co. Building, 609-611 Broadway, Kingston, SG100007103

Warren County, Mountainside Free Library, 3090 NY 9L, Queensbury, SG100007099

PENNSYLVANIA

Allegheny County

Centre Avenue YMCA, 2621 Centre Ave., Pittsburgh, SG100007092

Jones and Laughlin Steel Company Building, 200 Ross St., Pittsburgh, SG100007093

Philadelphia County

Sandoz Chemical Works, 2215 East Tioga St., Philadelphia, SG100007094

Richmond Station, Philadelphia Electric Company, 4101 North Delaware Ave., Philadelphia, SG100007095

UTAH

Salt Lake County

Mexican Branch LDS Meetinghouse, (Historic Latinx Resources in Utah, 1776 to 1942 MPS), 232 West 800 South, Salt Lake City, MP100007106

Weber County

Rushmer Building, (Commercial and Industrial Properties of Ogden, Utah, 1845-1975 MPS), 2434-2436 Washington Blvd., Ogden, MP100007109

Additional documentation has been received for the following resources:

FLORIDA

Duval County

Downtown Jacksonville Historic District (Additional Documentation), Roughly bounded by North Pearl, Beaver, and North Catherine Sts., Independent and Courthouse Drs., Jacksonville, AD16000212

VIRGINIA

Fauquier County

Upperville Historic District (Additional Documentation), Along US 50/John S. Mosby Hwy. intersecting Patrick St., Delaplane Grade Rd., Parker and Lafayette Sts., Poplar Row and Crofton Lns., Upper Rd., Walnut St., Brooks Cluster Cir., Upperville, AD72001394

Authority: Section 60.13 of 36 CFR part 60.

Dated: September 25, 2021.
Sherry A. Frear,
Chief, National Register of Historic Places/National Historic Landmarks Program.

[FR Doc. 2021-21780 Filed 10-5-21; 8:45 am]

BILLING CODE 4312-52-P